ENVIRONMENTAL PROTECTION AGENCY

[FRL OP-OFA-088]

Environmental Impact Statements; Notice of Availability

Responsible Agency: Office of Federal Activities, General Information 202-564-5632 or https://www.epa.gov/nepa.

Weekly receipt of Environmental Impact Statements (EIS)

Filed September 18, 2023 10 a.m. EST Through September 25, 2023 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20230124, Final, FHWA, LA, I-10 Calcasieu River Bridge Improvements, Review Period Ends: 10/30/2023, Contact: Charles Harkless 225-757-7621.

EIS No. 20230125, Draft, UDOT, UT, I-15 Farmington to Salt Lake City, Comment Period Ends: 11/13/2023, Contact: Brandon Weston 801-965-4603.

EIS No. 20230126, Draft, BLM, CA, Northwest California Resource Management Plan (NCIP), Comment Period Ends: 12/28/2023, Contact: Victoria Slaughter 707-825-2315.

EIS No. 20230127, Draft, NPS, USFWS, WA, Draft Grizzly Bear Restoration Plan—Environmental Impact Statement North Cascades Ecosystem, Comment Period Ends: 11/13/2023, Contact: Denise Shultz 360-854-7200.

EIS No. 20230128, Final, BOEM, VA, Coastal Virginia Offshore Wind Commercial, Review Period Ends: 10/30/2023, Contact: Jessica Stromberg 703-787-1730.

EIS No. 20230129, Final Supplement, USPS, DC, Next Generation Delivery Vehicle Acquisitions, Review Period Ends: 10/30/2023, Contact: Davon Collins 202-268-4570.

EIS No. 20230130, Final, DOE, NV, ADOPTION—Thacker Pass Lithium Mine Project, Review Period Ends: 10/30/2023, Contact: Anna Eskridge 240-743-1304.

The Department of Energy (DOE) has adopted the Bureau of Land Management's Final EIS No. 20200247 filed 11/25/2020 with the Environmental Protection Agency. The DOE was not a cooperating agency on this project. Therefore, republication of the document is necessary under Section 1506.3(b)(1) of the CEQ regulations.

Amended Notice

EIS No. 20230096, Draft, NHTSA, REG, Corporate Average Fuel Economy Standards for Passenger Cars and Light Trucks, Model Years 2027-2032, and Fuel Efficiency Standards for Heavy-Duty Pickup Trucks and Vans, Model Years 2030-2035, Comment Period Ends: 10/16/2023, Contact: Hannah Fish 202-366-1099.

Revision to FR Notice Published 08/04/2023; Extending the Comment Period from 10/04/2023 to 10/16/2023.

Dated: September 25, 2023.
Nancy Abrams,
Associate Director, Office of Federal Activities.

[FR Doc. 2023-21435 Filed 9-28-23; 8:45 am]

BILLING CODE 6560-50-P